DEPARTMENT OF COMMERCE

National Institute of Standards and Technology

[Docket Number 120221142-2118-01]

Manufacturing Extension Partnership (MEP) Centers for South Dakota and Kentucky; Availability of Funds

AGENCY: National Institute of Standards and Technology (NIST), United States Department of Commerce (DoC).

ACTION: Notice.

SUMMARY: NIST invites proposals from eligible proposers for funding projects to provide manufacturing extension services to primarily small- and medium-sized manufacturers in the United States. These projects will establish MEP centers in South Dakota and Kentucky.

DATES: All proposals, paper and electronic, must be received no later than 5 p.m. Eastern Time on April 30, 2012.

ADDRESSES: The standard application package may be obtained by contacting Diane Henderson, National Institute of Standards and Technology, Manufacturing Extension Partnership, 100 Bureau Drive, Stop 4800, Gaithersburg, MD 20899-4800, phone 301-975-5105, or by downloading the application package through Grants.gov. Paper submissions should be sent to: Diane Henderson, National Institute of Standards and Technology, Manufacturing Extension Partnership, 100 Bureau Drive, Stop 4800, Gaithersburg, MD 20899-4800. Electronic submissions should be submitted to www.grants.gov.

FOR FURTHER INFORMATION CONTACT: Administrative, budget, cost-sharing, and eligibility questions and other programmatic questions should be directed to Diane Henderson at Tel: (301) 975-5105; Email: diane.henderson@nist.gov; Fax: (301) 963-6556. Grants Administration questions should be addressed to: Melinda Chukran, Grants and Agreements Management Division, National Institute of Standards and Technology, 100 Bureau Drive, Stop 1650, Gaithersburg, MD 20899-1650; Tel: (301) 975-5266. For assistance with using Grants.gov contact Christopher Hunton at Tel: (301) 975-5718; Email: Christopher.hunton@nist.gov; Fax: (301) 840-5976. All questions and responses will be posted on the MEP Web site, www.nist.gov/mep.

SUPPLEMENTARY INFORMATION:

Electronic access: Proposers are strongly encouraged to read the Federal Funding Opportunity (FFO) announcement available at www.grants.gov for complete information about this program, including all program requirements and instructions for applying by paper or electronically. The FFO may be found by searching under the Catalog of Federal Domestic Assistance Name and Number provided below.

Authority: 15 U.S.C. 278k, as implemented in 15 CFR part 290.

Catalog of Federal Domestic Assistance Name and Number: Manufacturing Extension Partnership—11.611.

Information Session: NIST MEP will hold an information session for organizations considering applying to this opportunity. An information session in the form of a webinar will be held approximately 14 business days after publication of this notice in the Federal Register. The exact date and time of the webinar will be posted on the MEP Web site at www.nist.gov/mep. Organizations wishing to participate in the webinar must sign up by contacting Diane Henderson at diane.henderson@nist.gov.

Program Description: NIST invites proposals from eligible proposers for funding two (2) separate MEP centers to provide manufacturing extension services to primarily small- and medium-sized manufacturers in two separate locations, South Dakota and/or Kentucky. These MEP centers will become part of the MEP national system of extension service providers, currently comprised of more than 400 centers and field offices located throughout the United States and Puerto Rico.

The objective of an MEP center is to provide manufacturing extension services that enhance productivity, innovative capacity, and technological performance, and strengthen the global competitiveness of primarily small- and medium-sized U.S.-based manufacturing firms in its service region. Manufacturing extension services are provided by utilizing the most cost effective, local, leveraged resources for those services through the coordinated efforts of a regionally-based MEP center and local technology resources. The management and operational structure of an MEP center is not prescribed, but should be based upon the characteristics of the manufacturers in the region and locally available resources with demonstrated experience working with manufacturers.

It is not the intent of this program that the centers perform research and development.

Information regarding MEP and these centers is available at www.nist.gov/mep.

Funding Availability: Approximately $1,000,000 for new awards. NIST anticipates funding one (1) proposal at the level of up to $400,000 for an MEP Center in the state of South Dakota and one (1) proposal at the level of up to $600,000 for an MEP Center in the state of Kentucky. The projects awarded under this notice will have a budget and performance period of one (1) year. Each award may be renewed on an annual basis subject to the review requirements described in 15 CFR 290.8. Renewal of each project shall be at the sole discretion of NIST and shall be based upon satisfactory performance, priority of the need for the service, existing legislative authority, and availability of funds.

Cost Share Requirements: This Program requires a non-Federal cost share of at least 50 percent of the total project cost for the first year of operation. Any renewal funding of an award will require non-Federal cost sharing as follows:

Year of center operation | Maximum NIST share | Minimum non-federal share
1-3 | ½ | ½
4 | ⅖ | ⅗
5 and beyond | ⅓ | ⅔

Non-Federal cost sharing is that portion of the project costs not borne by the Federal Government. The proposer's share of the MEP center expenses may include cash, services, and third party in-kind contributions, as described at 15 CFR 14.23 or 24.24, as applicable, and the MEP program rule, 15 CFR 290.4(c). No more than 50% of the proposer's total non-Federal cost share may be third party in-kind contributions of part-time personnel, equipment, software, rental value of centrally located space, and related contributions, per 15 CFR 290.4(c)(5). The source and detailed rationale of the cost share, including cash, full- and part-time personnel, and in-kind donations, must be documented in the budget submitted with the proposal and will be considered as part of the evaluation review.

All non-Federal cost share contributions require a letter of commitment signed by an authorized official from each source.

Any cost sharing must be in accordance with the “cost sharing or matching” provisions of 15 CFR part 14, Uniform Administrative Requirements for Grants and Cooperative Agreements with Institutions of Higher Education, Hospitals, Other Non-Profit, and Commercial Organizations and 15 CFR part 24, Uniform Administrative Requirements for Grants and Cooperative Agreements to State and Local Governments.

As with the Federal share, any proposed costs included as non-Federal cost sharing must be an allowable/eligible cost under this Program and the following applicable Federal cost principles: (1) Institutions of Higher Education: 2 CFR part 220 (OMB Circular A-21); (2) Nonprofit Organizations: 2 CFR part 230 (OMB Circular A-122); and (3) State, Local and Indian Tribal Governments: 2 CFR part 225.

As with the Federal share, any proposed non-Federal cost sharing will be made a part of the cooperative agreement award and will be subject to audit if the project receives MEP funding.

Eligibility: The eligibility requirements given in this section will be used in lieu of those published in the MEP regulations found at 15 CFR part 290, specifically 15 CFR 290.5(a)(1). Each award recipient must be a U.S.-based nonprofit institution or organization. For the purpose of this notice, nonprofit organizations include, but are not limited to, universities and state and local governments. An eligible organization may work individually or include proposed subawards or contracts with others in a project proposal, effectively forming a team. Existing MEP centers are eligible.

Proposal Requirements: Proposals must be submitted in accordance with the requirements set forth in the corresponding FFO announcement.

Evaluation Criteria: The evaluation criteria provided in this section will be used for this competition in lieu of that provided in the MEP regulations found at 15 CFR part 290, specifically 15 CFR 290.6 (http://ecfr.gpoaccess.gov/cgi/t/text/text-idx?c=ecfr&sid=8652afebd3b81ef821cdaba9a0b5197c&rgn=div5&view=text&node=15:1.2.2.10.13&idno=15).

The proposals will be evaluated based on the evaluation criteria described below, which are set in the context of the proposer's ability to align the proposal for accomplishing the objectives of NIST MEP's Next Generation Strategy: Continuous Improvement, Technology Acceleration, Supplier Development, Sustainability and Workforce. The NIST MEP Next Generation Strategy can be found at www.nist.gov/mep.

The evaluation criteria that will be used in evaluating proposals are as follows:

1. Identification of Target Firms in Proposed Region. Does the proposal clearly address the entire service region, providing for a large enough population of target firms of small- and medium-sized manufacturers that the proposer understands and can serve, and which is not presently served by an existing Center?

a. Market Analysis. Demonstrated understanding of the service region's manufacturing base, including business size, industry types, product mix, and technology requirements.

b. Geographical Location. Physical size, concentration of industry, and economic significance of the service region's manufacturing base. Geographical diversity of the Center as compared to existing Centers will be a factor in evaluation of proposals.

2. Technology Resources. Does the proposal assure strength in technical personnel and programmatic resources, full-time staff, facilities, equipment, and linkages to external sources of technology to develop and transfer technologies related to NIST research results and expertise in the technical areas noted in the MEP regulations found at 15 CFR Part 290 as well as from other sources of technology research and development?

3. Technology Delivery Mechanisms. Does the proposal clearly and sharply define an effective methodology for delivering advanced manufacturing technology to small- and medium-sized manufacturers and mechanism(s) for accelerating the adoption of technologies for both process improvement and new product adoption?

a. Linkages. Development of effective partnerships or linkages to third parties such as industry, universities, nonprofit economic organizations, and state governments who will amplify the Center's technology delivery to reach a large number of clients in its service region.

b. Program Leverage. Provision of an effective strategy to amplify the Center's technology delivery approaches to achieve the proposed objectives as described in 15 CFR 290.3(e).

4. Management and Financial Plan. Does the proposal define a management structure and assure management personnel to carry out development and operation of an effective Center?

a. Organizational Structure. Completeness and appropriateness of the organizational structure, and its focus on the mission of the Center. Assurance of local full-time top management of the Center. This includes a clearly presented Oversight Board structure with a membership representing small- and medium- sized manufacturers in the region. MEP has determined that centers clearly benefit when a majority or more of its Board members/Trustees compose a membership representing principally small and medium manufacturing as well as committed partners and do not have dual obligations to more than one Center. Two-thirds of the members of the Center's oversight board must not be members of any other MEP Center boards.

b. Program Management. Effectiveness of the planned methodology of program management. This includes committed local partners and demonstrated experience of the leadership team in manufacturing, outreach and partnership development.

c. Internal Evaluation. Effectiveness of the planned continuous internal evaluation of program activities. The proposal must provide the methodology for continuous internal evaluation of the program activities and demonstrate the effectiveness of defined methodology.

d. Plans for Financial Cost Share. Demonstrated stability and duration of the proposer's funding commitments. Identification of the sources of cost share and the general terms of funding commitments. The total level of cost share and detailed rationale of the cost share, including cash and in-kind, must be documented in the budget submitted with the proposal.

e. Budget. Suitability and focus of the proposer's detailed one-year budget and budget outline for years two (2) through five (5).

Each of these criteria will be given equal weight in the evaluation process.

Review and Selection Process: The review and selection process and selection factors provided in this section will be used for this competition in lieu of that provided in the MEP regulations found at 15 CFR part 290, specifically 15 CFR 290.6 and 290.7.

1. Initial Administrative Review of Proposals. An initial review of timely received proposals will be conducted to determine eligibility, completeness, and responsiveness to this notice and the scope of the stated program objectives. Proposals determined to be ineligible, incomplete, and/or non-responsive may be eliminated from further review.

2. Full Review of Eligible, Complete, and Responsive Proposals. Proposals that are determined to be eligible, complete, and responsive will proceed for full reviews in accordance with the review and selection processes below:

a. Evaluation and Review. NIST will appoint an evaluation panel, consisting of at least three technically qualified reviewers to evaluate each proposal based on the evaluation criteria listed above and assign a numeric score for each proposal. If more than one non-Federal employee reviewer is used on the panel, the panel member reviewers may discuss the proposals with each other, but scores will be determined on an individual basis, not as a consensus. Proposals with an average score of 70 or higher out of 100 will be deemed finalists.

b. Site Visits. Site visits may be required to make full evaluation of a proposal that has been determined to be a finalist. If site visits are deemed necessary, all finalists will receive site visits conducted by the same evaluation panel reviewers referenced in the preceding paragraph. NIST may enter into negotiations with the finalists concerning any aspect of their proposal. Finalists will be reviewed, evaluated, and assigned numeric scores based on the evaluation criteria listed above.

c. Ranking and Selection. Based on the average of the panel member reviewers' scores, a rank order will be prepared and provided to the Selecting Official for further consideration. The Selecting Official, who is the Director of the NIST MEP Program, will then select funding recipients based upon the rank order and the following selection factors.

(1) The availability of Federal funds.

(2) The need to assure appropriate regional distribution.

(3) Whether the project duplicates other projects funded by DoC or by other Federal agencies.

(4) Proposer's performance under current or previous Federal financial assistance awards. Note: Proposals from existing or previous MEP centers or partners must contain specific information that addresses whether the proposer's past performance with the program is indicative of expected performance under a possible new award and describing how and why performance is expected to be the same or different.

NIST reserves the right to negotiate the budget costs with the proposers that have been selected to receive awards, which may include requesting that the proposer remove certain costs. Additionally, NIST may request that the proposer modify objectives or work plans and provide supplemental information required by the agency prior to award. NIST also reserves the right to reject a proposal where information is uncovered that raises a reasonable doubt as to the responsibility of the proposer. NIST may select part, some, all, or none of the proposals. The final approval of selected proposals and issuance of awards will be by the NIST Grants Officer. The award decisions of the NIST Grants Officer are final.

Unsuccessful proposers will be notified in writing. The Program will retain one copy of each unsuccessful proposal for three (3) years for record keeping purposes. The remaining copies will be destroyed. After three (3) years the remaining copy will be destroyed.

Administrative and National Policy Requirements

The Department of Commerce Pre-Award Notification Requirements: The Department of Commerce Pre-Award Notification Requirements for Grants and Cooperative Agreements, which are contained in the Federal Register Notice of February 11, 2008 (73 FR 7696), are applicable to this notice. Please refer to http://www.gpo.gov/fdsys/pkg/FR-2008-02-11/pdf/E8-2482.pdf.

Employer/Taxpayer Identification Number (EIN/TIN), Dun and Bradstreet Data Universal Numbering System (DUNS), and Central Contractor Registration (CCR): All proposers for Federal financial assistance are required to obtain a universal identifier in the form of DUNS number and maintain a current registration in the CCR database. On the form SF-424 items 8.b. and 8.c., the proposer's 9-digit EIN/TIN and 9-digit DUNS number must be consistent with the information on the CCR (www.ccr.gov) and Automated Standard Application for Payment System (ASAP). For complex organizations with multiple EIN/TIN and DUNS numbers, the EIN/TIN and DUNS number MUST be the numbers for the applying organization. Organizations that provide incorrect/inconsistent EIN/TIN and DUNS numbers may experience significant delays in receiving funds if their proposal is selected for funding. Confirm that the EIN/TIN and DUNS numbers are consistent with the information on the CCR and ASAP.

Per the requirements of 2 CFR part 25, each proposer must:

1. Be registered in the CCR before submitting a proposal;

2. Maintain an active CCR registration with current information at all times during which it has an active Federal award or a proposal under consideration by an agency; and

3. Provide its DUNS number in each application or proposal it submits to the agency.

See also the Federal Register notice published on September 14, 2010, at 75 FR 55671.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001. MEP program-specific application requirements have been approved by OMB under Control Number 0693-0056.

Notwithstanding any other provision of the law, no person is required to respond to, nor shall any person be subject to a penalty for failure to comply with, a collection of information subject to the requirements of the Paperwork Reduction Act, unless that collection of information displays a currently valid OMB Control Number.

Funding Availability and Limitation of Liability: Funding for the program listed in this notice is contingent upon the availability of appropriations. In no event with NIST or the Department of Commerce be responsible for proposal preparation costs if this program fails to receive funding or is cancelled because of agency priorities. Publication of this notice does not oblige NIST or the Department of Commerce to award any specific project or to obligate any available funds.

Executive Order 12866: This funding notice was determined to be not significant for purposes of Executive Order 12866.

Executive Order 13132 (Federalism): It has been determined that this notice does not contain policies with federalism implications as that term is defined in Executive Order 13132.

Executive Order 12372: Proposals under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553(a)). Because notice and comment are not required under 5 U.S.C. 553, or any other law, for rules relating to public property, loans, grants, benefits or contracts (5 U.S.C. 553(a)), a Regulatory Flexibility Analysis is not required and has not been prepared for this notice, 5 U.S.C. 601 et seq.

Dated: February 24, 2012.
Phillip Singerman,
Associate Director for Innovation & Industry Services.

[FR Doc. 2012-4959 Filed 2-29-12; 8:45 am]

BILLING CODE 3510-13-P